SMALL BUSINESS ADMINISTRATION

Small Business Size Standards: Notification of Two Virtual Public Forums on the 2023 Revised Size Standards Methodology White Paper

AGENCY: Small Business Administration.

ACTION: Notification of virtual public forums on size standards review and methodology.

SUMMARY: The U.S. Small Business Administration (SBA) is holding a series of two virtual public forums on size standards to update the public on the status of the forthcoming third five-year review of size standards, as mandated by the Small Business Jobs Act of 2010, and to consider public testimony on proposed changes to the SBA's size standards methodology for establishing, reviewing, or modifying size standards, as detailed in SBA's 2023 Revised Size Standards Methodology White Paper (2023 Revised Methodology). Testimony presented at these forums will become part of the administrative record for SBA's consideration when finalizing the 2023 Revised Methodology.

DATES: The virtual forum dates are as follows:

• Tuesday, January 23, 2024, from 1:00 p.m. to 3:00 p.m., EST.

• Thursday, January 25, 2024, from 1:00 p.m. to 3:00 p.m., EST.

ADDRESSES: The forums will be held via the Microsoft Teams platform. Registration is required to attend these virtual events. Visit SBA's size standards web page at http://www.sba.gov/size to register.

FOR FURTHER INFORMATION CONTACT: Samuel Castilla, Economist, Office of Size Standards, (202) 619-0389 or sizestandards@sba.gov. The phone number above may also be reached by individuals who are deaf or hard of hearing, or who have speech disabilities, through the Federal Communications Commission's TTY-Based Telecommunications Relay Service teletype service at 711.

SUPPLEMENTARY INFORMATION:

I. Background

SBA is seeking public comments on its SBA's 2023 Revised Size Standards Methodology White Paper (2023 Revised Methodology) (available at www.sba.gov/size) in accordance with SBA's Federal Register notice issued on December 11, 2023 (88 FR 85852) which notified the public of the availability of the revised size standards methodology for public review and requested comments on SBA's proposed revisions. The 2023 Revised Methodology explains how SBA establishes, reviews, and modifies small business size standards. Specifically, the 2023 Revised Methodology provides a detailed description of SBA's size standards methodology, including changes from SBA's current methodology (also available at www.sba.gov/size), which guided the SBA's recently completed second five-year review of size standards required by the Small Business Jobs Act of 2010 (Pub. L. 111-240, 124 Stat. 2504, Sept. 27, 2010) (Jobs Act). SBA welcomes from interested parties comments and feedback on the 2023 Revised Methodology, which SBA intends to apply to the forthcoming third five-year review of size standards under the Jobs Act. The comment period ends on February 9, 2024.

SBA is proposing changes to its methodology for reviewing size standards in order to address public comments received under the second five-year review of size standards and to make certain analytical improvements. Major changes to the size standards methodology include: (1) Replacing the current approach to account for the Federal contracting factor with the “disparity ratio” approach; (2) Using the Federal Procurement Data System—Next Generation (FPDS-NG) and the System for Award Management (SAM) data to compute the 20th percentile and 80th percentile values of industry factors for evaluating size standards at subindustry levels (“exceptions”), instead of having those calculated based on the Economic Census data; (3) Updating the minimum and maximum size standard levels; and (4) Updating the 20th percentile and 80th percentile values of industry factors, derived from the 2017 Economic Census (latest available) and other industry data, used to evaluate the structure of each industry.

Comments solicited by SBA on the 2023 Revised Methodology are not industry specific, but rather, focused on SBA's process and assumptions for evaluating size standards more generally. After evaluating all comments received and finalizing the 2023 Revised Methodology, SBA will later issue proposed rules detailing the proposed revisions to size standards using the process described in the finalized size standards methodology.

Generally, SBA accepts comments on size standards for specific industries under the relevant proposed rule detailing the proposed revisions to size standards for a particular industry or a group of industries. This is to ensure that commenters are fully informed of the impacts of SBA's finalized size standards methodology on the industries for which they are interested in, and to offer stakeholders the opportunity to provide SBA with comments, data, and analysis assessing the appropriateness of SBA's proposed size standards. As such, SBA encourages commenters with industry-specific comments to share their feedback under the relevant forthcoming proposed rule after reviewing SBA's proposed size standard for their specific industry, or group of industries, of interest. After evaluating all public comments to the proposed rule, SBA will issue a final rule adjusting size standards under the forthcoming third five-year review of size standards.

II. Virtual Public Forums on Size Standards

Under this notice, SBA is advising the public that it is hosting a series of two virtual public forums on size standards to update the public on the status of the forthcoming third five-year review of size standards under the Jobs Act and consider public testimony on proposed changes contained in the 2023 Revised Methodology. These forums also conform to the requirements of section 1344 of the Jobs Act which mandates that SBA hold not less than two public forums during its quinquennial review of size standards.

As part of fulfilling that mandate under the recently completed second five-year review of size standards, on June 14 and June 16, 2022, SBA held a series of two virtual forums on size standards in order to update the public on the status of the ongoing second five-year review of size standards and consider public testimony on proposed changes to size standards contained in the proposed rule covering Manufacturing and other industries with employee-based size standards (87 FR 24752; April 26, 2022). Comments received during the virtual sessions were entered into the public docket for the rule and used to further refine SBA's evaluation of size standards. SBA responded to all comments received during the virtual sessions in the final rule for Manufacturing and other industries with employee-based size standards (88 FR 9970; February 15, 2023). SBA will use a similar format for soliciting and evaluating comments on the 2023 Revised Methodology.

SBA will hold additional public forums after issuing proposed rules evaluating size standards under the third five-year review of size standards. SBA encourages commenters with industry-specific comments to share their feedback at this later stage after reviewing SBA's proposed changes to size standards. SBA considers public forums on size standards as a valuable component of its deliberations and public engagement and believes that these forums allow for constructive dialogue with small businesses and their representatives, industry trade associations, participants in SBA's contracting and financial assistance programs, and other stakeholders.

The format of the public forums on the SBA's 2023 Revised Methodology will consist of a panel of SBA representatives who will preside over the session. The oral and written testimony as well as any comments SBA receives during the public forums will become part of the administrative record for SBA's consideration in finalizing its size standards methodology. Written testimony may be submitted in lieu of oral testimony on or before February 9, 2024, at www.regulations.gov, using the following Docket number: SBA-2023-0015; by email to sizestandards@sba.gov with subject line “Comments to SBA-2023-0015”; or by mail to Khem R. Sharma, Chief, Office of Size Standards, 409 3rd Street SW, Mail Code 6530, Washington, DC, 20416. SBA will analyze the testimony, both oral and written, along with any written comments received and respond to all comments in a notice finalizing the 2023 Revised Methodology. However, during the public forums, SBA officials will not provide comment on the testimony of speakers. SBA requests that commenters focus on the contents of SBA's 2023 Revised Methodology. SBA requests that commenters do not raise issues pertaining to specific industries, or issues outside the scope of SBA's 2023 Revised Methodology.

In the December 11, 2023, Federal Register notice, SBA requested feedback on a number of questions within the scope of the 2023 Revised Methodology, including: (a) Should SBA adopt a new disparity ratio approach to evaluating small business participation in the Federal market, which will replace the Federal contracting factor the Agency used in the past?; (b) Should SBA lower size standards regardless of prevailing economic conditions when the analytical results support lowering them or should it consider the prevailing economic environment when deciding on whether to revise size standards?; (c) Should SBA consider adjusting employee-based size standards for labor productivity growth or increased automation similar to it adjusts monetary-based size standards for inflation?; (d) Should SBA consider lowering its size standards generally?; (e) Are there alternative or additional factors or data sources that SBA should consider when establishing, reviewing, or revising size standards?; and (f) Does SBA's current approach to establishing or modifying small business size standards make sense in the current economic environment? SBA hopes to receive public input on these questions, as well as on others, as posed in the December 2023 notice.

Presenters are encouraged to provide a written copy of their testimony. SBA will accept written material that the presenter wishes to provide that further supplements his or her testimony during the public forums. Electronic or digitized submissions are encouraged. The two virtual public forums on size standards will be held on Tuesday, January 16, 2024 and Thursday, January 18, 2024, from 1:00 p.m. to 3:00 p.m. EST; SBA will adjourn early if all testimony has been delivered before the end time.

III. Registration

Participants must pre-register to attend either of the two virtual public forums on size standards by visiting SBA's size standards web page at http://www.sba.gov/size and registering at the link provided. On the registration form, participants may indicate whether they would like to testify at the forum. After registering, participants will receive an email with an access link and call-in information which can be used to access the forum on the scheduled date and time. Additional information about the forum is provided on SBA's announcements about updating size standards web page, available at https://www.sba.gov/articles?keyword=&article_type=253&field_article_authoring_office_target_id=5086&langcode=All, and in the invitation that participants receive upon registration. SBA will attempt to accommodate all interested parties that wish to present testimony. Based on the number of registrants it may be necessary to impose time limits to ensure that everyone who wishes to testify can do so.

IV. Information on Service for Individuals With Disabilities

For information on services for individuals with disabilities or to request special assistance contact Samuel Castilla at the telephone number or email address indicated above under the FOR FURTHER INFORMATION CONTACT section of this notice.

Sam Le,
Director, Office of Policy, Planning and Liaison.

[FR Doc. 2024-00781 Filed 1-16-24; 8:45 am]

BILLING CODE 8026-09-P